COMMITTEE FOR THE IMPLEMENTATION OF TEXTILE AGREEMENTS

Adjustment of Import Limits for Certain Cotton and Man-Made Fiber Textile Products Produced or Manufactured in Pakistan

March 6, 2002.

AGENCY: Committee for the Implementation of Textile Agreements (CITA).

ACTION: Issuing a directive to the Commissioner of Customs adjusting limits.

EFFECTIVE DATE: March 12, 2002.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

A package of apparel benefits has been granted to the Government of Pakistan, and is laid out in the Annex to a February 21, 2002 letter from Commerce Department International Trade Administration Under Secretary Grant Aldonas to the Pakistani Secretary of Commerce, Mr. Mirza Qamar Beg, in response to Secretary Beg’s letter of February 4, 2002. In the attached directive, 2002 limits for imports of certain apparel categories from Pakistan are being raised reflecting the increases to base limits provided in the Annex to Under Secretary Aldonas’ letter.

The base limits for certain categories are being raised by 15%; also, some of these limits reflect reductions previously made for carryforward that was applied to the 2001 limits.

A description of the textile and apparel categories in terms of HTS numbers is available in the CORRELATION: Textile and Apparel Categories with the Harmonized Tariff Schedule of the United States (see Federal Register notice 66 FR 65178, published on December 18, 2000). Also see 66 FR 63683, published on December 10, 2001.

D. Michael Hutchinson,
Acting Chairman, Committee for the Implementation of Textile Agreements.

Committee for the Implementation of Textile Agreements

March 6, 2002.

Commissioner of Customs,

Department of the Treasury, Washington, DC 20229.

Dear Commissioner: This directive amends, but does not cancel, the directive issued to you on December 4, 2001, by the Chairman, Committee for the Implementation of Textile Agreements. That directive concerns imports of certain cotton and man-made fiber textile products produced or manufactured in Pakistan and exported during the twelve-month period which began on January 1, 2002 and extends through December 31, 2002.

Effective on March 12, 2002, you are directed to raise the limits for the following categories, as provided for under the Uruguay Round Agreement on Textiles and Clothing:

Category | Twelve-month restraint limit ¹
Specific limits |
331pt./631pt. ² | 905,976 dozen pairs.
334/634 | 389,495 dozen.
335/635 | 630,644 dozen.
341/641 | 1,244,490 dozen.
351/651 | 527,543 dozen.
638/639 | 700,857 dozen.
647/648 | 1,328,797 dozen.
¹ The limits have not been adjusted to account for any imports exported after December 31, 2001.
² Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510; Category 631pt.: all HTS numbers except 6116.10.1730, 6116.10.4820, 6116.10.5520, 6116.10.7520, 6116.93.8800, 6116.93.9400, 6116.99.4800, 6116.99.5400 and 6116.99.9530.

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc.02-5879 Filed 3-11-02; 8:45 am]

BILLING CODE 3510-DR-S